DEPARTMENT OF DEFENSE

Department of the Navy

Meeting of the Naval Research Advisory Committee

AGENCY: Department of the Navy, Department of Defense (DoD).

ACTION: Notice of open meeting.

SUMMARY: The Naval Research Advisory Committee (NRAC) will meet September 19-21, 2011 to discuss materials in support of the study: Processes for the Use of BA4 Funding. All sessions on Monday, September 19; Tuesday, September 20; and Wednesday, September 21 will be open to the public.

DATES: Monday, September 19; Tuesday, September 20; and Wednesday, September 21, from 8 a.m. to 4 p.m. each day.

ADDRESSES: The NRAC study meeting will take place in the Didactic Room, Herrmann Hall, Naval Postgraduate School, 699 Dyer Rd., Monterey, CA 93943, Phone: 831-656-2098, Fax: 831-656-2038.

FOR FURTHER INFORMATION CONTACT: Mr. William H. Ellis, Jr., Program Director, Naval Research Advisory Committee, 875 North Randolph Street, Arlington, VA 22203-1955, 703-696-5775.

SUPPLEMENTARY INFORMATION: Access instructions for the public:

All guests must notify the NRAC office of their intention of attending one or more days of the meeting. Please submit the following information via FAX to the NRAC office no later than Thursday, September 15, 2011: Full name, last four digits of your Social Security Number (SSN), contact address, contact telephone, citizenship.

A list of potential visitors will be provided to the security personnel at the Naval Postgraduate School (NPGS). Please present two forms of identification and request the security officer to search for your name on the visitor access roster for the NRAC meeting. All guests must have at least two forms of government issued identification. All guests will be limited to only those areas related to the study meeting activities. All guests will be required to leave NPGS upon completion of the NRAC activities open to the public, unless otherwise authorized to remain aboard military installations (Active duty, Retirees, etc.).

Please forward this information to the below NRAC staff:

Mr. William Ellis, NRAC Program Director, william.h.ellis@navy.mil; FAX: 703-696-4837 or Mr. Miguel Becerril, NRAC Program Manager, Miguel.becerril.ctr@navy.mil; FAX: 703-696-4837.

Due to internal DoD difficulties, beyond the control of the Naval Research Advisory Committee or its Designated Federal Officer, the Board was unable to process the Federal Register notice for the September 19-21, 2011 meeting of the Naval Research Advisory Committee as required by 41 CFR § 102-3.150(a). Accordingly, the Advisory Committee Management Officer for the Department of Defense, pursuant to 41 CFR 102-3.150(b), waives the 15-calendar day notification requirement.

Dated: September 7, 2011.
Aaron Siegel,
Alternate OSD Federal Register Liaison Officer, Department of Defense.

[FR Doc. 2011-23291 Filed 9-12-11; 8:45 am]

BILLING CODE 5001-06-P